DEPARTMENT OF HEALTH AND HUMAN SERVICES

Centers for Disease Control and Prevention

[30Day-18-17AMO]

Agency Forms Undergoing Paperwork Reduction Act Review

In accordance with the Paperwork Reduction Act of 1995, the Centers for Disease Control and Prevention (CDC) has submitted the information collection request titled “Assessment of Ill Worker Policies Study” to the Office of Management and Budget (OMB) for review and approval. CDC previously published a “Proposed Data Collection Submitted for Public Comment and Recommendations” notice on July 14, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

Assessment of Ill Worker Policies Study—New—National Center for Environmental Health (NCEH), Centers for Disease Control and Prevention (CDC).

Background and Brief Description

The Centers for Disease Control and Prevention (CDC) is requesting a new three-year OMB clearance to conduct information collection entitled “Assessment of Ill Worker Policies Study.” CDC's National Center for Environmental Health implements the Environmental Health Specialists Network (EHS-Net) program, which conducts studies to identify and understand environmental factors associated with foodborne illness outbreaks and other food safety issues (e.g., ill food workers). These data are essential to environmental public health regulators' efforts to respond more effectively to and prevent future outbreaks by identifying underlying causes and intervention strategies.

EHS-Net is a collaborative project of the CDC, the U.S. Food and Drug Administration (FDA), the U.S. Department of Agriculture (USDA), industry partners and eight state and local public health departments (California, Minnesota, New York, New York City, Rhode Island, Tennessee, Southern Nevada Health District, and Harris County Texas). CDC funds these state and local health departments, which enables them to collaborate on study design, collect study data, and co-analyze study data with CDC. The federal partners also provide funding and input into study design and data analysis. Ill food service workers have long been identified as a source of contamination in restaurants. The 2013 FDA Food Code specifically addresses food worker health under section 2-201. However, even with these regulations in place food workers continue to serve as a source for disease transmission (e.g., Norovirus).

The FDA Food Code also calls for excluding food workers from working in the restaurant that are diagnosed with an illness or have symptoms. Research has indicated that many food service workers have reported working while sick and that the reasons provided are multi-faceted. To assist in reducing this national disease burden, it is critical to develop and implement successful interventions that address the reasons that restaurant workers continue to work while sick. The goals of this study include:

(1) Assess restaurant ill worker management practices and plans; and

(2) Assess whether an educational intervention will result in restaurants enhancing their ill worker management procedures.

The data from this study can be used to further develop educational materials, trainings, and tools that are targeted towards improving retail food establishment ill worker management practices.

This data collection request aims to address data gap by surveying restaurants on their ill worker polices through a quasi-experimental nonequivalent group pre- post-test design, with implementation of an educational intervention to randomly selected independently-owned restaurants in the EHS-Net area. Data will be collected by study personnel from restaurants that are split into two groups, intervention and control restaurants requiring up to three visits. The assessments at each site visit will be the same in both the intervention and control restaurants.

Data collection will consist of a manager interview to understand the current practices in the restaurant, a facility observation to observe the practices in place to prevent contamination from an employee, and a food worker survey to obtain their beliefs towards the current policies. The educational intervention planned in the study is designed to encourage restaurants to develop ill worker management policies that have provisions to address the reasons that workers have reported working while ill. The success of the intervention will be measured using a pre- post-test nonequivalent groups design. If the intervention is resulting in having restaurants enhance their ill worker management policies; at the follow up visit, the intervention will be provided to the control restaurants and an additional follow up visit will occur in these restaurants.

For the purpose of the burden hours, eight sites will collect data in 40 restaurants. The total estimated annualized burden hours averaged over the three-year study period are 352 burden hours. Participation in this proposed information collection is voluntary. There is no cost to respondents other than their time.

Estimated Annualized Burden Hours
Type of respondents | Form name | Number of respondents | Number of responses per respondent | Average burden per response (in hours)
Restaurant Managers (Intervention and Control Restaurants) | Manager Recruiting Script | 237 | 1 | 3/60
Restaurant Managers (Intervention Restaurants) Visit 1 | Manager Informed Consent and Interview Form | 54 | 1 | 20/60
Restaurant Managers (Intervention Restaurants) Visit 2 | Manager Informed Consent and Interview Form | 54 | 1 | 20/60
Food Workers (Intervention Restaurants) Visit 1 | Food Worker Informed Consent and Survey | 270 | 1 | 5/60
Food Workers (Intervention Restaurants) Visit 2 | Food Worker Informed Consent and Survey | 270 | 1 | 5/60
Health Department Workers (Intervention Restaurants) Visit 1 | Restaurant Environment Observation Form | 54 | 1 | 30/60
Health Department Workers (Intervention Restaurants) Visit 2 | Restaurant Environment Observation Form | 54 | 1 | 30/60
Restaurant Managers (Control Restaurants) Visit 1 | Manager Informed Consent and Interview Form | 54 | 1 | 20/60
Restaurant Managers (Control Restaurants) Visit 2 | Manager Informed Consent and Interview Form | 54 | 1 | 20/60
Restaurant Managers (Control Restaurants) Visit 3 | Manager Informed Consent and Interview Form | 54 | 1 | 20/60
Food Workers (Control Restaurants) Visit 1 | Food Worker Informed Consent and Survey | 270 | 1 | 5/60
Food Workers (Control Restaurants) Visit 2 | Food Worker Informed Consent and Survey | 270 | 1 | 5/60
Food Workers (Control Restaurants) Visit 3 | Food Worker Informed Consent and Survey | 270 | 1 | 5/60
Health Department Workers (Control Restaurants) Visit 1 | Restaurant Environment Observation Form | 54 | 1 | 30/60
Health Department Workers (Control Restaurants) Visit 2 | Restaurant Environment Observation Form | 54 | 1 | 30/60
Health Department Workers (Control Restaurants) Visit 3 | Restaurant Environment Observation Form | 54 | 1 | 30/60

Leroy A. Richardson,
Chief, Information Collection Review Office, Office of Scientific Integrity, Office of the Associate Director for Science, Office of the Director, Centers for Disease Control and Prevention.

[FR Doc. 2017-24416 Filed 11-8-17; 8:45 am]

BILLING CODE 4163-18-P